DEPARTMENT OF JUSTICE

Notice of Lodging of Agreed Amendment to the Consent Decree Providing for Remedial Actions at Neal's Landfill, Lemon Lane Landfill and Bennett's Dump and Addressing General Matters Under the Comprehensive Environmental Response, Compensation and Liability Act

Notice is hereby given that on February 19, 2008, a proposed Amendment to the Consent Decree Providing for Remedial Actions at Neal's Landfill, Lemon Lane Landfill and Bennett's Dump and Addressing General Matters (“Amendment”) in United States of America, et al., v. CBS Corporation, Civil Action No. 1:81-cv-0448-RLY-KPF was lodged with the United States District Court for the Southern District of Indiana.

In 1985, CBS entered into a Consent Decree with the United States, the State of Indiana, the City of Bloomington and Monroe County to remove and incinerate PCB contamination from six sites in and near Bloomington, Indiana. The proposed Amendment is the last in a series of partial settlements that the parties have negotiated over the past 10 years to replace the remedial measures in the original 1985 settlement. The proposed Amendment requires CBS to perform additional cleanup actions selected by the U.S. Environmental Protection Agency to address PCB contamination in groundwater, surface water, soils and sediment at the last three sites. CBS shall, among other things, expand and operate the existing water treatment plant at Illinois Central Spring, expand the collection system and operate the existing treatment plant at Neal's Landfill, and build and operate a new collection and treatment system at Bennett's Dump. The Amendment also requires CBS to pay $6.67 million dollars to reimburse EPA for response costs incurred in investigating and cleaning up the sites, as well as requires CBS to pay $1.88 million to the Department of the Interior for the purpose of restoring or replacing natural resources that have been injured by on-going releases of PCBs from the sites.

The Department of Justice will receive for a period of thirty (30) days from the date of this publication comments relating to the Amendment. Comments should be addressed to the Assistant Attorney General, Environment and Natural Resources Division, and either e-mailed to pubcomment-ees.enrd@usdoj.gov or mailed to P.O. Box 7611, U.S. Department of Justice, Washington, DC 20044-7611, and should refer to United States of America, et al., v. CBS Corporation, D.J. Ref. 90-7-1-212A.

The Amendment may be examined at the Office of the United States Attorney, 10 W. Market St., Suite 2100, Indianapolis, IN 46204, and at U.S. EPA Region V, 77 West Jackson Blvd., Chicago, IL 60604-3590. During the public comment period, the Amendment, may also be examined on the following Department of Justice Web site, http://www.usdoj.gov/enrd/Consent_Decrees.html. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $207.25 (25 cents per page reproduction cost) payable to the U.S. Treasury or, if by e-mail or fax, forward a check in that amount to the Consent Decree Library at the stated address. In requesting a copy exclusive of appendices, please enclose a check in the amount of $17.75 (25 cents per page reproduction cost) payable to the U.S. Treasury.

William Brighton,
Assistant Chief, Environmental Enforcement Section, Environment and Natural Resources Division.

[FR Doc. E8-3542 Filed 2-25-08; 8:45 am]

BILLING CODE 4410-15-P